ENVIRONMENTAL PROTECTION AGENCY

40 CFR Parts 52 and 81

[EPA-R05-OAR-2006-0546; FRL-8534-4]

Approval and Promulgation of Ohio SO2 Air Quality Implementation Plans and Designation of Areas

AGENCY: Environmental Protection Agency (EPA).

ACTION: Final rule.

SUMMARY: EPA is approving an assortment of rules, submitted by Ohio on May 16, 2006, as amended on December 10, 2007, setting limits on sulfur dioxide (SO2) emissions. Most significantly, EPA is approving rules for Franklin, Stark, and Summit Counties and for one source in Sandusky County, rules that supersede regulations that EPA promulgated in 1976 as a Federal Implementation Plan (FIP). This action provides that the entire FIP for SO2 in Ohio will now be superseded by approved State limits. Consequently, EPA is rescinding the entire FIP. EPA is also approving several substantive rule revisions and approving numerous Ohio rules that update various company names and unit identifications. Finally, since this rulemaking resolves the issues, which led a court to remand the designation for a portion of Summit County to EPA for reconsideration, EPA is promulgating a designation of attainment for the presently undesignated portion of this county.

DATES: This final rule is effective on April 21, 2008.

ADDRESSES: EPA has established a docket for this action under Docket ID No. EPA-R05-OAR-2006-0546. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone John Summerhays, Environmental Scientist, at (312) 886-6067 before visiting the Region 5 office.

FOR FURTHER INFORMATION CONTACT: John Summerhays, Environmental Scientist, Criteria Pollutant Section, Air Programs Branch (AR-18J), Environmental Protection Agency, Region 5, 77 West Jackson Boulevard, Chicago, Illinois 60604, (312) 886-6067, summerhays.john@epa.gov.

SUPPLEMENTARY INFORMATION: This supplementary information section is arranged as follows:

I. Background for This Action

A. Summary of Ohio's Submittal

B. Summary of EPA's Proposed Rulemaking

C. Comments on EPA's Proposal

II. What Action Is EPA Taking?

III. Statutory and Executive Order Reviews.

I. Background for This Action

A. Summary of Ohio's Submittal

On May 16, 2006, Ohio EPA submitted 4 amended general SO2 rules and 40 county-specific SO2 rules. The county-specific rules include 4 rules that were submitted to supersede remaining FIP rules, 4 rules that include substantive revisions to the limits, and 32 rules, which only change company names or unit identifications or make other such administrative changes.

On July 24, 2007, Ohio submitted a letter identifying an error, noted by the company, in its SO2 limit for the facility in Stark County owned by the Canton Drop Forging and Manufacturing Company. On December 10, 2007, Ohio submitted rule revisions correcting this error. The correction of this error makes the Stark County rules consistent with Ohio's attainment demonstration for this county and fully approvable.

B. Summary of EPA's Proposed Rulemaking

EPA proposed action on this submittal on May 1, 2007. The notice of proposed rulemaking provided a summary of the full history of the regulation of SO2 emissions in the State of Ohio. Most notably, because Ohio withdrew its original SO2 rules from EPA consideration, EPA promulgated a FIP for SO2 on August 27, 1976, with numerous subsequent amendments. On September 12, 1979, Ohio submitted a plan with limits for SO2 in all 88 Ohio counties. For many of the counties, EPA approved Ohio's rules and provided that the approved rules would supersede the corresponding federally promulgated rules. For other counties, EPA had concerns about the 1979 rules that Ohio addressed with subsequent submittals. With its May 2006 submittal, Ohio completed the process of submitting State rules to address all 88 counties in the state and to entirely supersede the FIP for SO2 in Ohio.

EPA's May 2007 proposed rulemaking included three components. First, EPA addressed the state rules that Ohio submitted. EPA proposed to approve all of the submitted rules. Second, EPA addressed the FIP rules that the state rules supersede. Since the submitted rules, along with rules approved previously, would complete the process of superseding the entire FIP, EPA proposed to rescind the entire FIP. Third, EPA addressed the designation of portions of Summit County, Ohio. Portions of this county have been undesignated as a result of a lawsuit that led the Court of Appeals for the Sixth Circuit to remand the designation to EPA pending resolution of modeling issues as to what emission limits are necessary to attain the standard. EPA believes that these issues are resolved by the modeling underlying Ohio's Summit County SO2 limits, and so EPA proposed to establish a designation of attainment for this county.

EPA's proposed rulemaking was based on EPA's belief that Ohio's rules were fully consistent with the attainment demonstrations for the applicable counties. Although Ohio's letter of July 25, 2007, indicates that this was not the case for one boiler at one source in Stark County, the revised rules that Ohio submitted on December 10, 2007, remove this discrepancy. As a result, EPA believes that Ohio's limits are now consistent with the applicable attainment demonstrations and are fully approvable.

C. Comments on EPA's Proposal

EPA received no comments on its proposed rulemaking.

II. What Action Is EPA Taking?

EPA believes that the SO2 rules submitted by Ohio meet applicable requirements, most notably by assuring attainment in the applicable areas. Therefore, EPA is approving the rules that Ohio submitted on May 16, 2006, as amended in the rule submitted on December 10, 2007. Specifically, EPA is fully approving 44 rules for SO2 in Ohio, including 4 general rules, 4 county-specific rules that replace FIP rules, 4 county-specific rules that incorporate substantive changes in limits, and 32 county-specific rules that reflect only administrative changes such as updating company names.

This action provides that state rules now supersede the last remaining portions of the FIP that was promulgated in 1976 et seq. Therefore, the FIP may be removed from the Code of Federal Regulations (CFR). Even after the FIP is removed, EPA may continue to take enforcement action against violations of the FIP limits discovered to have occurred during the time the FIP was in effect. Accordingly, EPA is rescinding the entirety of 40 CFR 52.1881(b) (including general provisions and county-specific limits) and of 40 CFR 52.1882 (providing FIP compliance schedules). Since EPA has now approved rules for the entire State, EPA is rescinding the sections of 40 CFR 52.1881(a) that identify counties for which EPA has taken no action or has disapproved the state's plan. EPA is replacing the listing of counties having approved rules with a rule-by-rule listing of approved rules.

Finally, EPA is also establishing a designation of attainment for the portion of Summit County that is presently undesignated. For simplicity, EPA is combining the designations into a single designation for the entire county rather than have separate designations for four subdivisions of the county. EPA is also rescinding the footnote that was inadvertently applied to the designation of Trumbull County.

III. Statutory and Executive Order Reviews

A. Executive Order 12866: Regulatory Planning and Review

This action is not a “significant regulatory action” under the terms of Executive Order (EO) 12866 (58 FR 51735, October 4, 1993) and is therefore not subject to review under the EO.

B. Paperwork Reduction Act

This rule does not impose an information collection burden under the provisions of the Paperwork Reduction Act, 44 U.S.C. 3501 et seq. This action approves State rules regulating emissions of SO2. The present action does not establish any new information collection burden. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedures Act or any other statute unless the agency certifies the rule will not have a significant economic impact on a substantial number of small entities. Small entities include small businesses, small organizations, and small governmental jurisdictions. For purposes of assessing the impacts of today's action on small entities, small entity is defined as: (1) A small business that is a small industrial entity as defined in the U.S. Small Business Administration (SBA) size standards. (See 13 CFR 121.); (2) a small governmental jurisdiction that is a government of a city, county, town, school district or special district with a population of less than 50,000; and (3) a small organization that is any not-for-profit enterprise which is independently owned and operated and is not dominant in its field. This action merely approves state rules regulating SO2 emissions and imposes no additional requirements beyond those imposed by state rules. Accordingly, I certify that this rule will not have a significant economic impact on a substantial number of small entities.

D. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation to why that alternative was not adopted. Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements. Today's action does not include a Federal mandate within the meaning of UMRA that may result in expenditures of $100 million or more in any one year by either State, local, or Tribal governments in the aggregate or to the private sector, and therefore, is not subject to the requirements of sections 202 and 205 of the UMRA. This action merely approves state rules regulating SO2 emissions and imposes no additional requirements beyond those imposed by state rules. EPA has determined that this rule contains no regulatory requirements that might significantly or uniquely affect small governments, because the state emission limitations being approved apply to industrial facilities, not to any small government.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This action merely approves state rules regulating SO2 emissions and imposes no additional requirements beyond those imposed by state rules. This action will not modify the relationship of the States and EPA for purposes of developing programs to implement the NAAQS. Thus, Executive Order 13132 does not apply to this rule.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” This action does not have “Tribal implications” as specified in Executive Order 13175. This action merely approves state rules regulating SO2 emissions in a state with no federally recognized tribes. Thus, Executive Order 13175 does not apply to this rule.

G. Executive Order 13045: Protection of Children From Environmental Health and Safety Risks

Executive Order 13045: “Protection of Children From Environmental Health and Safety Risks” (62 FR 19885, April 23, 1997) applies to any rule that (1) is determined to be “economically significant” as defined under Executive Order 12866, and (2) concerns an environmental health or safety risk that EPA has reason to believe may have disproportionate effect on children. If the regulatory action meets both criteria, the Agency must evaluate the environmental health or safety effects of the planned rule on children, and explain why the planned regulation is preferable to other potentially effective and reasonably feasible alternatives considered by the Agency. This action merely approves state rules regulating SO2 emissions and imposes no additional requirements beyond those imposed by state rules. This action is not subject to Executive Order 13045 because it is not economically significant as defined in E.O. 12866, and because the Agency does not have reason to believe the environmental health risks or safety risks addressed by this rule present a disproportionate risk to children.

H. Executive Order 13211: Actions That Significantly Affect Energy Supply, Distribution, or Use

This action is not subject to Executive Order 13211, “Actions That Significantly Affect Energy Supply, Distribution, or Use,” (66 FR 28355, May 22, 2001) because it is not a significant regulatory action under Executive Order 12866.

I. National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

J. Executive Order 12898: Federal Actions To Address Environmental Justice in Minority Populations and Low-Income Populations

Executive Order (EO) 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. This action approves emission limitations that are equivalent or more stringent than current SIP limitations, and so this rule will not have adverse effects on any population.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This action will be effective April 21, 2008.

L. Petitions for Judicial Review

Under Section 307(b)(1) of the Clean Air Act, petitions for judicial review of this action must be filed in the United States Court of Appeals for the appropriate circuit by May 20, 2008. Filing a petition for reconsideration by the Administrator of this final rule does not affect the finality of this rule for the purposes of judicial review nor does it extend the time within which a petition for judicial review may be filed, and shall not postpone the effectiveness of such rule or action. This action may not be challenged later in proceedings to enforce its requirements. (See Section 307(b)(2).)

List of Subjects

40 CFR Part 52

Environmental protection, Air pollution control, Incorporation by reference, Intergovernmental relations, Sulfur oxides.

40 CFR Part 81

Air pollution control, Environmental protection, National parks, Sulfur dioxide, Wilderness areas.

Dated: February 21, 2008.
Stephen L. Johnson,
Administrator.

For the reasons stated in the preamble, parts 52 and 81, chapter I, of title 40 of the Code of Federal Regulations are amended as follows:

PART 52—[AMENDED]

1. The authority citation for part 52 continues to read as follows:

Authority: 42 U.S.C. 7401 et seq.

Subpart K—Ohio

2. Section 52.1870 is amended by adding paragraph (c)(136) to read as follows:

§ 52.1870 Identification of plan.

* * * * *

(c) * * *

(136) On May 16, 2006, Ohio submitted numerous regulations for sulfur dioxide. These regulations were submitted to replace the remaining federally promulgated regulations, to make selected revisions to applicable limits, and to update company names and make other similar administrative changes. On December 10, 2007, Ohio submitted a corrected rule for Stark County.

(i) Incorporation by reference.

(A) Ohio Administrative Code Rules 3745-18-01 “Definitions and incorporation by reference.”, 3745-18-02 “Ambient air quality standards; sulfur dioxide.”, 3745-18-03 “Attainment dates and compliance time schedules.”, 3745-18-06 “General emission limit provisions.”, 3745-18-10 “Ashtabula County emission limits.”, 3745-18-11 “Athens County emission limits.”, 3745-18-12 “Auglaize County emission limits.”, 3745-18-17 “Champaign County emission limits.”, 3745-18-18 “Clark County emission limits.”, 3745-18-28 “Erie County emission limits.”, 3745-18-29 “Fairfield County emission limits.”, 3745-18-31 “Franklin County emission limits.”, 3745-18-34 “Geauga County emission limits.”, 3745-18-35 “Greene County emission limits.”, 3745-18-37 “Hamilton County emission limits.”, 3745-18-38 “Hancock County emission limits.”, 3745-18-49 “Lake County emission limits.”, 3745-18-50 “Lawrence County emission limits.”, 3745-18-53 “Lorain County emission limits.”, 3745-18-57 “Marion County emission limits.”, 3745-18-61 “Miami County emission limits.”, 3745-18-63 “Montgomery County emission limits.”, 3745-18-66 “Muskingum County emission limits.”, 3745-18-68 “Ottawa County emission limits.”, 3745-18-69 “Paulding County emission limits.”, 3745-18-72 “Pike County emission limits.”, 3745-18-76 “Richland County emission limits.”, 3745-18-77 “Ross County emission limits.”, 3745-18-78 “Sandusky County emission limits.”, 3745-18-79 “Scioto County emission limits.”, 3745-18-80 “Seneca County emission limits.”, 3745-18-81 “Shelby County emission limits.”, 3745-18-83 “Summit County emission limits.”, 3745-18-84 “Trumbull County emission limits.”, 3745-18-85 “Tuscarawas County emission limits.”, 3745-18-87 “Van Wert County emission limits.”, 3745-18-90 “Washington County emission limits.”, 3745-18-91 “Wayne County emission limits.”, and 3745-18-93 “Wood County emission limits.”, adopted on January 13, 2006, effective January 23, 2006.

(B) January 13, 2006, “Director's Final Findings and Orders”, signed by Joseph P. Koncelik, Director, Ohio Environmental Protection Agency, adopting the rules identified in paragraph (A) above.

(C) Ohio Administrative Code Rules 3745-18-08 “Allen County emission limits.”, 3745-18-15 “Butler County emission limits.”, 3745-18-24 “Cuyahoga County emission limits.”, and 3745-18-54 “Lucas County emission limits.”, adopted on March 16, 2006, effective March 27, 2006.

(D) March 16, 2006, “Director's Final Findings and Orders”, signed by Joseph P. Koncelik, Director, Ohio Environmental Protection Agency, adopting rules 3745-18-08, 3745-18-15, 3745-18-24, and 3745-18-54.

(E) Ohio Administrative Code Rule 3745-18-82 “Stark County emission limits.”, adopted on November 28, 2007, effective December 8, 2007.

(F) November 28, 2007, “Director's Final Findings and Orders”, signed by Chris Korleski, Director, Ohio Environmental Protection Agency, adopting rule 3745-18-82.

* * * * *

3. Section 52.1881 is amended as follows:

a. By revising paragraph (a)(4).

b. By removing and reserving paragraphs (a)(7), (a)(8), and (b).

§ 52.1881 Control strategy: Sulfur oxides (sulfur dioxide).

(a) * * *

(4) Notwithstanding the portions of Ohio's sulfur dioxide rules identified in this section that EPA has either disapproved or taken no action on, EPA has approved a complete plan addressing all counties in the State of Ohio. EPA has approved the following rules, supplemented by any additional approved rules specified in 40 CFR 52.1870:

(i) Rules as effective in Ohio on December 28, 1979: OAC 3745-18-04(A), (B), (C), (D)(1), (D)(4), (E)(1), and (H) (measurement methods), OAC 3745-18-05 (ambient monitoring), OAC 3745-18-09 (Ashland County), OAC 3745-18-13 (Belmont), OAC 3745-18-14 (Brown), OAC 3745-18-16 (Carroll), OAC 3745-18-19 (Clermont)—except for one paragraph approved later (CG&E Beckjord), OAC 3745-18-20 (Clinton), OAC 3745-18-21 (Columbiana), OAC 3745-18-23 (Crawford), OAC 3745-18-25 (Darke), OAC 3745-18-26 (Defiance), OAC 3745-18-27 (Delaware), OAC 3745-18-30 (Fayette), OAC 3745-18-32 (Fulton), OAC 3745-18-36 (Guernsey), OAC 3745-18-39 (Hardin), OAC 3745-18-40 (Harrison), OAC 3745-18-41 (Henry), OAC 3745-18-42 (Highland), OAC 3745-18-43 (Hocking), OAC 3745-18-44 (Holmes), OAC 3745-18-45 (Huron), OAC 3745-18-46 (Jackson), OAC 3745-18-48 (Knox), OAC 3745-18-51 (Licking), OAC 3745-18-52 (Logan), OAC 3745-18-55 (Madison), OAC 3745-18-58 (Medina), OAC 3745-18-59 (Meigs), OAC 3745-18-60 (Mercer), OAC 3745-18-62 (Monroe), OAC 3745-18-64 (Morgan)—except for one paragraph approved later (OP Muskingum River), OAC 3745-18-65 (Morrow), OAC 3745-18-67 (Noble), OAC 3745-18-70 (Perry), OAC 3745-18-73 (Portage), OAC 3745-18-74 (Preble), OAC 3745-18-75 (Putnam), OAC 3745-18-86 (Union), OAC 3745-18-88 (Vinton), OAC 3745-18-89 (Warren), OAC 3745-18-92 (Williams), and OAC 3745-18-94 (Wyandot);

(ii) Rules as effective in Ohio on October 1, 1982: OAC 3745-18-64 (B) (OP Muskingum River in Morgan County);

(iii) Rules as effective in Ohio on May 11, 1987: OAC 3745-18-19(B) (CG&E Beckjord);

(iv) Rules as effective in Ohio on October 31, 1991: OAC 3745-18-04 (D)(7), (D)(8)(a) to (D)(8)(e), (E)(5), (E)(6)(a), (E)(6)(b), (F), and (I) (measurement methods);

(v) Rules as effective in Ohio on July 25, 1996: OAC 3745-18-47 (Jefferson);

(vi) Rules as effective in Ohio on March 21, 2000: OAC 3745-18-04(D)(8), (D)(9), and (E)(7) (measurement methods), OAC 3745-18-22 (Coshocton), OAC 3745-18-33 (Gallia), and OAC 3745-18-71 (Pickaway);

(vii) Rules as effective in Ohio on September 1, 2003: OAC 3745-18-04(F) and (J) (measurement methods), and OAC 3745-18-56 (Mahoning);

(viii) Rules as effective in Ohio on January 23, 2006: OAC 3745-18-01 (definitions), OAC 3745-18-02 (air quality standards), OAC 3745-18-03 (compliance dates), OAC 3745-18-06 (general provisions), OAC 3745-18-07 (Adams), OAC 3745-18-10 (Ashtabula), OAC 3745-18-11 (Athens), OAC 3745-18-12 (Auglaize), OAC 3745-18-17 (Champaign), OAC 3745-18-18 (Clark), OAC 3745-18-28 (Erie), OAC 3745-18-29 (Fairfield), OAC 3745-18-31 (Franklin), OAC 3745-18-34 (Geauga), OAC 3745-18-35 (Greene), OAC 3745-18-37 (Hamilton), OAC 3745-18-38 (Hancock), OAC 3745-18-49 (Lake), OAC 3745-18-50 (Lawrence), OAC 3745-18-53 (Lorain), OAC 3745-18-57 (Marion), OAC 3745-18-61 (Miami), OAC 3745-18-63 (Montgomery), OAC 3745-18-66 (Muskingum), OAC 3745-18-68 (Ottawa), OAC 3745-18-69 (Paulding), OAC 3745-18-72 (Pike), OAC 3745-18-76 (Richland), OAC 3745-18-77 (Ross), OAC 3745-18-78 (Sandusky), OAC 3745-18-79 (Scioto), OAC 3745-18-80 (Seneca), OAC 3745-18-81 (Shelby), OAC 3745-18-83 (Summit), OAC 3745-18-84 (Trumbull), OAC 3745-18-85 (Tuscarawas), OAC 3745-18-87 (Van Wert), OAC 3745-18-90 (Washington), OAC 3745-18-91 (Wayne), and OAC 3745-18-93 (Wood);

(ix) Rules as effective in Ohio on March 27, 2006: OAC 3745-18-08 (Allen), OAC 3745-18-15 (Butler), OAC 3745-18-24 (Cuyahoga), and OAC 3745-18-54 (Lucas); and

(x) Rule as effective in Ohio on December 8, 2007: OAC 3745-18-82 (Stark).

* * * * *

§ 52.1882 [Removed and Reserved]

4. Section 52.1882 is removed and reserved.

PART 81—[AMENDED]

5. The authority citation for part 81 continues to read as follows:

Authority: 42 U.S.C. 7401 et seq.

Subpart C—Section 107 Attainment Status Designations

6. The table in § 81.336 entitled “Ohio—SO2” is amended by removing the three footnotes and revising the entries for Summit and Trumbull Counties to read as follows:

§ 81.336 Ohio.

Ohio.—SO2
Designated area | Does not meet primary standards | Does not meet secondary standards | Cannot be classified | Better than national standards
* * * * * * *
Summit County |  |  |  | X
Trumbull County |  |  |  | X
* * * * * * *

* * * * *

[FR Doc. E8-5666 Filed 3-20-08; 8:45 am]

BILLING CODE 6560-50-P